DEPARTMENT OF HEALTH AND HUMAN SERVICES

Office of Global Affairs: Stakeholder Listening Session for the Intergovernmental Negotiating Body (INB) To Draft and Negotiate a WHO Convention, Agreement or Other International Instrument on Pandemic Prevention, Preparedness and Response

ACTION: Notice of public listening session; request for comments.

DATES: The listening session will be held on Wednesday, June 28, 2023, from 12 p.m. to 2 p.m., Eastern Daylight Time.

Place: The session will be held virtually, with online and dial-in information shared with registered participants.

Status: This meeting is open to the public but requires RSVP to OGA.RSVP@hhs.gov by Friday, June 23, 2023. See RSVP section below for details.

SUPPLEMENTARY INFORMATION:

Purpose: The U.S. Department of Health and Human Services (HHS) and the Department of State are charged with co-leading the U.S. delegation to the Intergovernmental Negotiating Body to draft and negotiate a WHO convention, agreement or other international instrument on pandemic prevention, preparedness and response and will convene an informal Stakeholder Listening Session.

The Stakeholder Listening Session is designed to seek input from stakeholders and subject matter experts to help inform and prepare for U.S. government engagement with the Intergovernmental Negotiating Body.

Matters to be Discussed: The listening session will discuss potential areas that could be included in a pandemic accord to promote pandemic prevention, preparedness, and response. Topics will include those found in the current draft of the Pandemic Accord. More information can be found at: https://apps.who.int/gb/inb/index.html. Participation is welcome from all stakeholder communities.

RSVP: Persons seeking to speak at the listening session must register by Friday, June 23, 2023. Persons seeking to attend the listening session in a listen-only capacity must register by Monday, June 26, 2023.

Registrants must include their full name, email address, and organization, if any, and indicate whether they are registering as a listen-only attendee or as a speaker participant to OGA.RSVP@hhs.gov.

Requests to participate as a speaker must include all of the following:

1. The name and email address of the person desiring to participate

2. The organization(s) that person represents, if any

3. Identification of the primary topic of interest

Other Information: This listening session will be recorded for the benefit of the members of the US Government who participate in the Intergovernmental Negotiating Body.

Written comments should be emailed to OGA.RSVP@hhs.gov with the subject line “Written Comment Re: Stakeholder Listening Session 2 for the INB” by Friday, July 7, 2023.

We look forward to your comments on the Intergovernmental Negotiating Body (INB) and Draft of the WHO convention, agreement or other international instrument on pandemic prevention, preparedness and response.

Susan Kim,
Chief of Staff, Office of Global Affairs.

[FR Doc. 2023-07810 Filed 4-12-23; 8:45 am]

BILLING CODE 4150-38-P